DEPARTMENT OF DEFENSE

Office of the Secretary

Defense Science Board

AGENCY: Department of Defense.

ACTION: Notice of Advisory Committee meeting data change.

SUMMARY: On Friday, November 29, 2002 (67 FR 71144), the Department of Defense announced closed meetings of the Defense Science Board Task Force on Joint Experimentation. The meeting scheduled for December 18, 2002, has been rescheduled for January 9-10, 2003; it will be held at Strategic Analysis Inc., 3601 Wilson Boulevard, Suite 600, Arlington, VA.

Dated: December 4, 2002.
Patricia L. Toppings,
Alternate OSD Federal Register Liaison Officer, Department of Defense.

[FR Doc. 02-31391 Filed 12-12-02; 8:45 am]

BILLING CODE 5001-08-M